DEPARTMENT OF AGRICULTURE

Animal and Plant Health Inspection Service

7 CFR Part 301

[Docket No. 99-080 2]

Citrus Canker; Packing in the Quarantined Area

AGENCY: Animal and Plant Health Inspection Service, USDA.

ACTION: Affirmation of interim rule as final rule.

SUMMARY: We are adopting as a final rule, without change, an interim rule that allowed citrus fruit produced outside the quarantined areas to be moved into a quarantined area for packing and then moved from that quarantined area to any destination in the United States, including commercial citrus-producing areas. The interim rule provided that citrus fruit produced outside the quarantined areas, if moved into a quarantined area for packing, must be moved and handled according to specific conditions designed to prevent the artificial spread of citrus canker, including conditions to prevent its commingling with, and possible contamination by, citrus fruit produced within a quarantined area. The interim rule was necessary in order to relieve unnecessary restrictions on regulated fruit originating outside a quarantined area but packed within a quarantined area.

EFFECTIVE DATE: The interim rule became effective on October 29, 1999.

FOR FURTHER INFORMATION CONTACT: Mr. Stephen Poe, Operations Officer, Surveillance and Emergency Programs Planning and Coordination, PPQ, APHIS, 4700 River Road Unit 134, Riverdale, MD 20737-1231; (301) 734-8899.

SUPPLEMENTARY INFORMATION:

Background

In an interim rule effective October 29, 1999, and published in the Federal Register on November 4, 1999 (64 FR 60088-60092, Docket No. 99-080-1), we amended the regulations in “Subpart Citrus Canker” (7 CFR 301.75 through 301.75-16, referred to below as the regulations) to allow citrus fruit produced outside the quarantined areas to be moved into a quarantined area for packing and then moved from that quarantined area to any destination in the United States, including commercial citrus-producing areas. The interim rule provided that citrus fruit produced outside the quarantined areas, if moved into a quarantined area for packing, must be moved and handled according to specific conditions designed to prevent the artificial spread of citrus canker, including conditions to prevent its commingling with, and possible contamination by, citrus fruit produced within a quarantined area.

We solicited comments on the interim rule for 60 days ending on January 3, 2000. We received three comments by that date. They were from State agricultural agencies and a citrus industry organization. While two of the commenters supported the provisions of the interim rule, all three commenters expressed specific concerns. These are addressed below.

Current Detection and Quarantine Programs

All three commenters expressed concern that the description of quarantined areas in § 301.75-4 of the regulations was not current and did not, therefore, reflect all the areas in which citrus canker has been detected in Florida. This, the commenters stated, could result in the continuing spread of citrus canker due to the lack of restrictions on the movement of regulated articles from areas affected with citrus canker but not under Federal quarantine.

Despite close monitoring by Animal and Plant Health Inspection Service (APHIS) inspectors and frequent updates to the citrus canker regulations, unavoidable delays in the Federal rulemaking process occasionally result in a lag between the detection of citrus canker in specific areas and the addition of those areas to the list of quarantined areas in § 301.75-4(a). While there may be some delay in listing specific areas in the regulations, paragraph (b) of § 301.75-4 does provide that the Administrator may designate any non-quarantined area as a quarantined area upon giving written notice of this designation to the owner or persons in possession of the non-quarantined area. Thereafter, regulated articles may be moved interstate from that area only in accordance with the regulations. Given that the movement restrictions and other requirements of the regulations apply to growers, packers, and other regulated entities as soon as APHIS provides them with written notice, which we do following the detection of citrus canker in a new area, we do not believe that the delay between detection of the disease in a new area and that area's inclusion in the list of quarantined areas in the regulations detracts from the effectiveness of our regulatory program.

Monitoring for Compliance and Penalties for Noncompliance

All three commenters asked that we specify how we will ensure compliance with the provisions of the interim rule and explain what penalties there will be for noncompliance. One of the commenters suggested that provisions for ensuring compliance be incorporated into the regulations and that the penalties for noncompliance be specified.

The interim rule provides that regulated fruit not produced in a quarantined area but moved into a quarantined area for packing may be subsequently moved out of the quarantined area only if, in addition to other conditions provided in § 301.75-8(b), the regulated fruit is accompanied by a limited permit or a certificate issued in accordance with § 301.75-12. The regulations define a limited permit as an official document of the U.S. Department of Agriculture (USDA) authorizing the interstate movement of a regulated article from a quarantined area, but restricting the areas of the United States into which the regulated article may be moved. A certificate is an official document of the USDA authorizing the interstate movement of a regulated article from a quarantined area into any area of the United States. Under § 301.75-12, certificates and limited permits may be issued for the interstate movement of regulated articles only by an inspector or by persons operating under a compliance agreement. A compliance agreement is a written agreement between APHIS and a person engaged in the business of growing or handling regulated articles for interstate movement, in which the person pledges to comply with the regulations. If our inspectors have reason to believe there is not adequate compliance, we can refuse to issue the certificates and limited permits necessary for the movement of fruit. Additionally, the regulations provide that a certificate or limited permit may be withdrawn by an inspector if the inspector determines that any of the applicable requirements of the regulations have not been met. Similarly, any compliance agreement may be canceled by an inspector if the inspector finds that the person who entered into the compliance agreement has failed to comply with the regulations.

Packing plants inside a quarantined area that pack fruit produced in nonquarantined areas must maintain certain conditions, which include meeting specific cleaning, disinfection, and handling requirements, in addition to segregating fruit within the packing plant—i.e., keeping regulated fruit produced outside the quarantined areas physically separated from regulated fruit produced within quarantined areas. APHIS and the State of Florida monitor packing plants with frequent site visits to ensure that these conditions are being met. Certificates, limited permits, and compliance agreements may be suspended or withdrawn in cases where there is a pattern of noncompliance. While the Plant Protection Act (PPA) provides civil and criminal penalties for violations of the regulations, we believe that canceling or suspending compliance agreements is by itself an effective penalty. Without a compliance agreement, a packer would need to call an inspector every time he or she wanted to move fruit, which could delay the movement of fruit from the packing plant. Given that APHIS and the State of Florida routinely visit packing plants to assess compliance, and given that the regulations and the PPA provide us with several options for responding to incidents of noncompliance, we believe no changes to the interim rule are necessary.

Therefore, for the reasons given in the interim rule and in this document, we are adopting the interim rule as a final rule without change.

This action also affirms the information contained in the interim rule concerning Executive Order 12866 and the Regulatory Flexibility Act, Executive Orders 12372 and 12988, and the Paperwork Reduction Act.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 64 FR 60088-60092 on November 4, 1999.

Authority: 7 U.S.C. 166, 7711, 7712, 7714, 7731, 7735, 7751, 7752, 7753, and 7754; 7 CFR 2.22, 2.80, and 371.3. Section 301.75-15 also issued under Sec. 204, Title II, Pub. L. 106-113, 113 Stat. 1501A-293; sections 301.75-15 and 301.75-16 also issued under Sec. 203, Title II, Pub. L. 106-224, 114 Stat. 400 (7 U.S.C. 1421 note).

Done in Washington, DC, this 14th day of June 2002.
Peter Fernandez,
Acting Administrator, Animal and Plant Health Inspection Service.

[FR Doc. 02-15584 Filed 6-19-02; 8:45 am]

BILLING CODE 3410-34-P